DEPARTMENT OF THE INTERIOR

Bureau of Land Management

[LLCOF07000.L10200000.DS0000.20X]

Notice of Availability of the Final Environmental Impact Statement for Domestic Sheep Grazing Permit Renewals, Gunnison Field Office, Colorado

AGENCY: Bureau of Land Management, Interior.

ACTION: Notice of availability.

SUMMARY: In accordance with the National Environmental Policy Act of 1969, as amended, and the Federal Land Policy and Management Act of 1976, as amended, the Bureau of Land Management (BLM) has prepared a Final Environmental Impact Statement (EIS) for Domestic Sheep Grazing Permit Renewals in the Gunnison Field Office and by this notice is announcing its availability.

DATES: The BLM will not issue a final decision on the proposal for a minimum of 30 days after the date that the Environmental Protection Agency publishes its Notice of Availability in the Federal Register. The BLM will issue a proposed decision, followed by a 15-day protest period and a 30-day appeal period for the final decision.

ADDRESSES: Copies of the Final EIS for Domestic Sheep Grazing Permit Renewals are available for review at Gunnison Field Office, 210 West Spencer, Gunnison, CO 81230. Interested persons may also review the Final EIS on the internet at https://go.usa.gov/xQTyQ. Click the “Documents” link on the left side of the screen to find the electronic version of the document.

FOR FURTHER INFORMATION CONTACT: Kristi Murphy, Outdoor Recreation Planner, 970-642-4955; 210 West Spencer, Gunnison, CO 81230; email: kmurphy@blm.gov. Persons who use a telecommunications device for the deaf (TDD) may call the Federal Relay Service (FRS) at 1-800-877-8339 to contact Ms. Murphy during normal business hours. The FRS is available 24 hours a day, 7 days a week, to leave a message or question. You will receive a reply during normal business hours.

SUPPLEMENTARY INFORMATION: The BLM Gunnison Field office is proposing to renew the permits on nine domestic sheep grazing allotments, totaling 65,710 acres in Gunnison, Hinsdale and Ouray counties in Colorado. In 2015, the BLM published a Notice of Intent to prepare an EIS, initiating public scoping to identify issues through public participation and collaboration with partners. Initial scoping with internal staff, cooperating agencies, and the public identified the risk of contact and disease transmission between domestic sheep and Rocky Mountain bighorn sheep as the primary issue. Additional issues identified during scoping included potential impacts to threatened and endangered species, local and regional economics, cultural resources, Native American religious concerns, and public land health. The purpose of the action is to determine whether or not to authorize domestic sheep or goat grazing on nine BLM allotments, such that domestic sheep or goat grazing is in compliance with the Gunnison Resource Area Resource Management Plan, as amended, and BLM policy. The need for the action is to respond to permit applications for the nine allotments.

The BLM published a Notice of Availability on June 28, 2019, announcing the public comment period for the draft EIS (84 FR 31088). The draft EIS included alternatives that responded to the purpose and need, reduced the risk of contact and disease transmission, made progress in achieving land health standards, met objectives of the Canada Lynx Conservation Assessment and Strategy, and met the habitat and management guidelines of the Candidate Conservation Agreement for Gunnison Sage-Grouse and the draft Recovery Plan for Gunnison Sage-Grouse. The Draft EIS was available for a 45-day public comment period. The BLM hosted public meetings on July 17 and 18, 2019, in Montrose and Lake City, CO, respectively. The BLM received 31 comment submissions.

Alternatives analyzed in the EIS include the Proposed Action generated by the permittee applications. This alternative would provide grazing on nine allotments. Alternative B is the no-action alternative and would continue current management. Alternative C emphasizes a reduction in the risk of contact between domestic sheep/goats and Rocky Mountain bighorn sheep by not authorizing domestic sheep/goat grazing in pastures that overlap with Rocky Mountain bighorn sheep summer range. Alternative D emphasizes reduction of risk by not authorizing domestic sheep/goat grazing in the overall range of Rocky Mountain bighorn sheep. Alternative E is the no-grazing alternative. The BLM completed a risk of contact model for each of the action alternatives to aid in analyzing the potential levels of sheep interaction.

The BLM did not identify a preferred alternative in the Draft EIS but has identified a preferred alternative in the Final EIS, as required by Council on Environmental Quality regulations. The BLM has identified Alternative C as the preferred alternative. Alternative C applies new Terms and Conditions and eliminates domestic sheep/goat grazing in Rocky Mountain bighorn sheep summer range, providing additional spatial and temporal separation of the species.

The BLM considered comments on the Draft EIS received from the public and internal BLM review, and made changes in the Final EIS as appropriate. Public comments resulted in the addition of clarifying text and correction of data discrepancies in the EIS, but did not significantly change the alternatives.

(Authority: 40 CFR 1506.6, 40 CFR 1506.10)

Jamie E. Connell,
Colorado State Director.

[FR Doc. 2019-28397 Filed 1-2-20; 8:45 am]

BILLING CODE 4310-JB-P